DEPARTMENT OF COMMERCE

Economic Development Administration

Revolving Loan Fund Reporting Requirements—Request for Comments; Submission for OMB Review; Comment Request

The Department of Commerce (DoC) has submitted to the Office of Management and Budget (OMB) for clearance the following proposal for collection of information under provisions of the Paperwork Reduction Act (44 U.S.C. Chapter 5).

Agency: Economic Development Administration (EDA).

Title: Revolving Loan Fund (RLF) Reporting Requirements (includes RLF Standards Terms and Conditions, RLF Plan, RLF Annual Report, RLF Semiannual Report, RLF Income and Expense Statement and RLF Audit Requirements).

Agency Form Number: ED-209A, ED-209S and ED-209I.

OMB Approval Number: 0610-0095.

Type of Request: Extension of a currently approved collection.

Burden: 15,448 hours.

Average Hours Per Response: 12 burden hours for post-approval monitoring; and 40 hours for the Revolving Loan Fund Plan.

Number of Respondents: Approximately 627 respondents (1,254 responses annually for post-approval monitoring) and 10 respondents annually for the RLF Plan.

Needs and Uses: The Economic Development Administration (EDA) provides investments that will help our partners across the nation (states, regions and communities) create wealth and minimize poverty by promoting a favorable business environment to attract private capital investment and high skill, high wage jobs through world-class capacity building, infrastructure, business assistance, research grants and strategic initiatives. EDA's Revolving Loan Fund (RLF) Reporting Requirements are needed to ensure proper monitoring and compliance with program and administrative requirements as set forth in EDA's authorizing legislation (Pub. L. 105-393) and EDA's implementing regulations at 13 CFR Chapter III.

The RLF Reporting Requirements are used by EDA to monitor grantee progress in establishing the loan funds, making initial loans, collecting and relending the proceeds from loans, and compliance with time schedules and federal requirements for administering grants, civil rights, environmental and other requirements prior to grant disbursement. The RLF Reporting Requirements are based on OMB administrative requirements for Federal grants as implemented by DOC rules at 15 CFR Parts 14, 24, 29, and CFR 13 CFR Part III and are intended to supplement and explain such requirements and are not intended to replace or negate such requirements.

Affected Public: State, local or Tribal Government and not-for-profit organizations.

Frequency: On occasion for post-approval monitoring, and related reports.

Respondent's Obligation: Required to obtain or retain benefits.

OMB Desk Officer: David Rostker, (202) 395-7340.

Copies of the above information collection proposal can be obtained by calling or writing Madeleine G. Clayton, Departmental Paperwork Clearance Officer, (202) 482-3129, U.S. Department of Commerce, Room 6608, 14th and Constitution Avenue, NW., Washington, DC 20230, (or via Internet at Mclayton@doc.gov).

Written comments and recommendations for the proposed information collection should be sent within 30 days of publication of this notice to David Rostker, OMB Desk Officer, Room 10202, New Executive Office Building, Washington, DC 20503.

Dated: August 8, 2002.
Madeleine G. Clayton,
Departmental Paperwork Clearance Officer, Office of the Chief Information Officer.

[FR Doc. 02-20501 Filed 8-13-02; 8:45 am]

BILLING CODE 3510-34-P